DEPARTMENT OF LABOR

Employment and Training Administration

[TA-W-61,785; TA-W-61,785A]

Risdon International, Inc., Crown Risdon USA, Inc., Including On-Site Leased Workers of Manpower, Inc., Middletown, NY; Risdon International, Inc., Crown Risdon USA, Inc., Danbury, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 28, 2007, applicable to workers of Risdon International, Inc., Middletown, New York and Risdon International, Inc., Danbury, Connecticut. The notice was published in the Federal Register on September 11, 2007 (72 FR 51844).

At the request of the State agency, the Department reviewed the certification for workers of the subject firm. The Middletown, New York workers are engaged in the production of cosmetic packaging. The Danbury, Connecticut workers store and distribute products manufactured by Risdon.

New information shows that leased workers of Manpower, Inc. were employed on-site at the Middletown, New York location of Risdon International, Inc. The Department has determined that the Manpower, Inc. workers were sufficiently under the control of Risdon International, Inc. to be considered leased workers.

The State agency reports that following a change in company ownership during 2006, some workers' wages at the subject firm were reported under the Unemployment Insurance (UI) tax account for Crown Risdon USA, Inc. until November 2006.

Based on these findings, the Department is amending this certification to include leased workers of Manpower, Inc. working on-site at the Middletown, New York location of the subject firm and to show a change in ownership.

The intent of the Department's certification is to include all workers of Risdon International, Inc., Middletown, New York and Risdon International, Inc., Danbury, Connecticut who were adversely affected by a shift in production of cosmetic packaging to Mexico.

The amended notice applicable to TA-W-61,785 and TA-W-61,785A are hereby issued as follows:

”All workers of Risdon International, Inc., Crown Risdon USA, Inc., including on-site leased workers of Manpower, Inc., Middletown, New York (TA-W-61,785) and Risdon International, Inc., Crown Risdon USA, Inc., Danbury, Connecticut (TA-W-61,785A), who became totally or partially separated from employment on or after July 3, 2006, through August 28, 2009, are eligible to apply for adjustment assistance under Section 223 of the Trade Act of 1974, and are also eligible to apply for alternative trade adjustment assistance under Section 246 of the Trade Act of 1974.”

Signed at Washington, DC, this 21st day of September 2007.
Richard Church,
Certifying Officer, Division of Trade Adjustment Assistance.

[FR Doc. E7-19032 Filed 9-26-07; 8:45 am]

BILLING CODE 4510-FN-P